DEPARTMENT OF TRANSPORTATION

Federal Aviation Administration

Notice of Intent To Rule on Proposed Land Use Changes to Surplus Property at Page Field Airport, Fort Myers, FL

AGENCY: Federal Aviation Administration (FAA), DOT.

ACTION: Request for public comment.

SUMMARY: Notice is being given that the FAA is considering a request from Lee County, Florida to change 24.4 acres of airport property from aeronautical use to non-aeronautical use for commercial development. The surplus property land is no longer required for aviation use. The land has been designated for non-aeronatucal use on the Airport Layout Plan. The County will have land lease agreements with commercial developers that will generate non-aerouatical revenue to be deposited in the airport operation and maintenance fund.

DATES: Comments are due on or before January 12, 2024.

ADDRESSES: Documents are available for review at the Lee County Port Authority, 11000 Terminal Access Road, Fort Myers, FL 33913, and the FAA Airports District Office, 8427 SouthPark Circle, Suite 524, Orlando, FL 32819. Written comments on the Sponsor's request must be delivered or mailed to: Marisol Elliott, Community Planner, Orlando Airports District Office, 8427 Southark Circle, Suite 524, Orlando, FL 32819.

FOR FURTHER INFORMATION CONTACT: Marisol Elliott, Community Planner, Orlando Airports District Office, 8427 SouthPark Circle, Suite 524, Orlando, FL 32819, (407) 487-7231.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

Revision Date: August 23, 2022.

Bartholomew Vernace,
Manager, Orlando Airports District Office, Southern Region.

[FR Doc. 2023-27203 Filed 12-12-23; 8:45 am]

BILLING CODE 4910-13-P